DEPARTMENT OF AGRICULTURE

Food Safety and Inspection Service

[Docket No. 00-009N]

Membership on the National Advisory Committee on Meat and Poultry Inspection; Nominations

AGENCY: Food Safety and Inspection Service, USDA.

ACTION: Notice.

SUMMARY: The U.S. Department of Agriculture is soliciting nominations for membership on the National Advisory Committee on Meat and Poultry Inspection (NACMPI). The Committee provides advice and recommendations to the Secretary of Agriculture pertaining to the meat and poultry inspection programs. Nominations for membership are being sought from individuals representing producers, processors, marketers, exporters and importers of meat and poultry products; academia; State government officials; and consumers. This notice also informs members of the public as to how they may receive copies of the weekly FSIS Constituent Update, which provides information regarding FSIS polices, procedures, regulations, Federal Register notices, FSIS public meetings, recalls, and other relevant information.

DATES: Nomination packages for membership must be postmarked no later than June 30, 2000.

ADDRESSES: Nominations should be sent to Ms. Margaret Glavin, Associate Administrator, Food Safety and Inspection Service, USDA, Room 331-E, Whitten Building, 1400 Independence Avenue, SW., Washington, DC 20250-3700.

FOR FURTHER INFORMATION CONTACT: Mr. Michael Micchelli, Evaluation and Analysis Division, Food Safety and Inspection Service, Room 3833, South Agriculture Building, 1400 Independence Avenue, SW., Washington, DC 20250-3700, 202-720-6269; Fax: 202-690-1030; E-mail: michael.micchelli@usda.gov.

SUPPLEMENTARY INFORMATION:

Background

The U.S. Department of Agriculture is soliciting nominations for membership on the NACMPI. The Committee provides advice and recommendations to the Secretary of Agriculture pertaining to the meat and poultry inspection programs, pursuant to sections 7(c), 24, 205, 301(a)(3), and 301(c) of the Federal Meat Inspection Act, 21 U.S.C. 607(c), 624, 645, 661(a)(3), and 661(c), and sections 5(a)(3), 5(c), 8(b) and 11(e) of the Poultry Products Inspection Act, 21 U.S.C. 454(a)(3), 454(c), 457(b), and 460(e).

Appointments to the Committee will be made by the Secretary of Agriculture. Nominees will be considered without discrimination for any reason such as race, color, religion, sex, national origin, age, or marital status. Nominees will initially serve two-year terms. No member may serve on the NACMPI for more than three (3) consecutive terms. The duties of the Committee are solely advisory. Committee members will be reimbursed for official travel expenses only. It is anticipated that the Committee will meet at least annually.

The nomination package should include the following information:

1. A brief summary of no more than two (2) pages explaining the nominees suitability to serve on the NACMPI.

2. A resume' or curriculum vitae.

All nominees will be requested to complete Form AD-755, Advisory Committee Membership Background Information. This form will be mailed to all nominees upon receipt of their nomination. To ensure that recommendations of the NACMPI take into account the needs of the diverse groups served by USDA, membership shall include, to the extent practicable, individuals with demonstrated ability to represent minorities, women, and persons with disabilities. USDA is actively soliciting nominations of qualified minorities, women, and persons with disabilities through outreach to minority-focused media outlets, the Federal Register, and other appropriate methods.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on line through the FSIS web page located at http://www.fsis.usda.gov. The update is used to provide information regarding FSIS policies, procedures, regulations, Federal Register notices, FSIS public meetings, recalls, and any other types of information that could affect or would be of interest to our constituents/stakeholders. The constituent fax list consists of industry, trade, farm, and consumer interest groups, allied health professionals and scientific professionals, and other individuals that have requested to be included. Through these various channels, FSIS is able to provide information to a much broader, more diverse audience. For more information and to be added to the constituent fax list, fax your request to the FSIS Congressional and Public Affairs Office, at (202) 720-5704.

Done at Washington, DC on April 10, 2000.
Thomas J. Billy,
Administrator.

[FR Doc. 00-9272 Filed 4-12-00; 8:45 am]

BILLING CODE 3410-DM-P